DEPARTMENT OF TRANSPORTATION

Federal Railroad Administration

Petitions for Waivers of Compliance

In accordance with Title 49 Code of Federal Regulations (CFR) § 211.41, and 49 U.S.C. 20103, notice is hereby given that the Federal Railroad Administration (FRA) has received a request for waiver of compliance with certain requirements of the Federal railroad safety regulations. The individual petition is described below, including the party seeking relief, the regulatory and statutory provisions involved, and the nature of the relief being sought.

San Diego Trolley, Inc. (“SDTI”)

FRA Waiver Petition No. FRA-2000-7137

San Diego Trolley, Inc. (SDTI), a wholly owned subsidiary of the Metropolitan Transit Development Board, seeks a permanent waiver of compliance from certain CFR parts of Title 49, specifically: part 217, Railroad Operating Rules; part 218, Railroad Operating Practices; part 219, Control of Alcohol and Drug Use; part 220, Railroad Communications; part 221, Rear End Marking Devices; part 223, Safety Gazing Standards—Locomotives, Passenger Cars and Cabooses; part 225, Railroad Accidents/Incidents—Report Classification, and Investigations; part 229, Railroad Locomotive Safety Standards; part 231, Railroad Safety Appliance Standards; part 238, Passenger Equipment Safety Standards; part 239, Passenger Train Emergency Preparedness; and part 240, Qualification and Certification of Locomotive Engineers, as well as the statutory requirements of 49 U.S.C. chapter 211 pertaining to hours of service (see 49 U.S.C. 21108).

SDTI has also petitioned for grandfathering approval to operate its equipment under 49 CFR 238.203. Notice of this petition has already been published in the Federal Register at 65 FR 25023 (April 28, 2000).

SDTI was created as a wholly-owned subsidiary by the Metropolitan Transit Development Board (“MTDB”) in August 1980 to operate and maintain a Light Rail Transit (“LRT”) system. The SDTI System covers an area of approximately 46.4 route miles. Patronage on the SDTI System presently is over 75,000 passengers on an average weekday.

SDTI seeks approval of shared track usage and waiver of certain FRA regulations involving light rail passenger operations with freight trains. SDTI also requests approval of a pilot project under which certain hours of service requirements would be waived. FRA has jurisdiction over a portion of the SDTI because it is connected to the general railroad system of transportation. Specifically, certain portions of the SDTI rail lines are used for freight rail carrier service. The freight operator, San Diego & Imperial Valley Railroad (“SD&IV”), conducts operations on the SDTI under temporal separation. (SDTI has recently amended its petition (1999-7137-8) to include a proposed amendment to its Standard Operating Procedure that would permit certain limited joint operations during the early morning period with light rail and freight movements on separate, but adjacent tracks.) The SD&IV operates at night on the rail line between San Diego and El Cajon, CA (approximately 18 miles) and between San Diego and San Ysidro, CA the southern terminal of the SDTI system (approximately 14 miles). See “Statement of Agency Policy Concerning Jurisdiction Over the Safety of Railroad Passenger Operations and Waivers Related to Shared Use of the Tracks of the General Railroad System by Light Rail and Conventional Equipment” at 65 FR 42529 (July 10, 2000); see also “Joint Statement of Agency Policy Concerning Shared Use of the Tracks of the General Railroad System by Conventional Railroads and Light Rail Transit Systems” at 65 FR 42626 (July 10, 2000).

Since FRA has not yet concluded its investigation of the SDTI's petition, the agency takes no position at this time on the merits of SDTI's stated justifications. As part of FRA's review of the petition, the Federal Transit Administration will appoint a representative to advise FRA's Safety Board, and that person will participate in the board's consideration of MTA's waiver petition.

All communications concerning these proceedings should identify the appropriate docket number (Docket Number FRA-2000-7137) and must be submitted to the DOT Docket Management Facility, Room PL-401 (Plaza level), 400 Seventh Street, SW., Washington, DC 20590. All documents in the public docket, including SDTI's detailed waiver request, are also available for inspection and copying on the Internet at the docket facility's Web site at http://dms.dot.gov. Communications received within 45 days of the date of this notice will be considered by FRA before final action is taken. Comments received after that date will be considered to the extent practicable. All written communications concerning this proceeding are available for examination during regular business hours (9 a.m.-5 p.m.) at the above facility.

Issued in Washington, DC on September 21, 2000.
Grady C. Cothen, Jr.,
Deputy Associate Administrator for Safety Standards and Program Development.

[FR Doc. 00-25072 Filed 9-28-00; 8:45 am]

BILLING CODE 4910-06-P